FEDERAL COMMUNICATIONS COMMISSION

[FR ID 332373]

Privacy Act of 1974; System of Records

AGENCY: Federal Communications Commission.

ACTION: Notice; modified system of records.

SUMMARY: The Federal Communications Commission (FCC, Commission, or Agency) proposes to modify a system of records, FCC/WCB-6, USAC Customer Relationship Management (CRM), subject to the Privacy Act of 1974, as amended. This action is necessary to meet the requirements of the Privacy Act to publish in the Federal Register notice of the existence and character of records maintained by the Agency. The Universal Service Administrative Company (USAC), under the direction of the Commission and, by delegation, of the Commission's Wireline Competition Bureau (WCB), administers the Universal Service Fund (USF) programs and certain programs funded by Congressional appropriations (appropriated programs). This system of records contains information about individuals who are customers, participants, and stakeholders of the programs who submit complaints and requests for assistance to USAC to address issues with their program participation. The modifications include the addition of one new routine use.

DATES: This modified system of records will become effective on February 25, 2026. Written comments on the routine uses are due by March 27, 2026. The routine uses in this action will become effective on March 27, 2026, unless comments are received that require a contrary determination.

ADDRESSES: Send comments to Shana Yates, Federal Communications Commission (FCC), 45 L Street NE, Washington, DC 20554, or to privacy@fcc.gov.

FOR FURTHER INFORMATION CONTACT: Shana Yates, (202) 418-0683, or privacy@fcc.gov.

SUPPLEMENTARY INFORMATION: This notice serves to update and modify FCC/WCB-6, USAC Customer Relationship Management (CRM), system of records as a result of necessary changes and updates. The substantive changes and modifications to the previously published version of the FCC/WCB-6 system of records includes:

1. Updating the Purposes of the System to reflect that the CRM system Phase II has been launched; and

2. Adding a new routine use (listed by the routine use number provided in this notice): (14) Department of Treasury (as required by Executive Order 14249, Protecting America's Bank Account Against Fraud, Waste, and Abuse).

SYSTEM NAME AND NUMBER:

FCC/WCB-6, USAC Customer Relationship Management.

SECURITY CLASSIFICATION:

Unclassified.

SYSTEM LOCATION:

Universal Service Administrative Company (USAC), 700 12th Street NW, Suite 900, Washington, DC 20005; and Wireline Competition Bureau (WCB), Federal Communications Commission (FCC), 45 L Street NE, Washington, DC 20554.

SYSTEM MANAGER(S):

Address inquiries to USAC, 700 12th Street NW, Suite 900, Washington, DC 20005; or WCB, FCC, 45 L Street NE, Washington, DC 20554.

AUTHORITY FOR MAINTENANCE OF THE SYSTEM:

47 U.S.C. 151-154, 201-205, 214, 403; Safe Connections Act of 2022, Public Law 117-223, 116 Stat. 2280.

PURPOSE(S) OF THE SYSTEM:

USAC administers the programs of the USF (including the Lifeline, High Cost, Rural Health Care, and E-Rate programs) and certain appropriated programs including the Affordable Connectivity Program (ACP), Emergency Connectivity Fund Program (ECF), and the COVID-19 Telehealth Program on behalf of the FCC, as set forth in 47 CFR part 54, under the direction of the Commission and, by delegation, of WCB. Under the Memorandum of Understanding Between the FCC and USAC (Dec. 19, 2018), as amended (Nov. 22, 2021) and extended (Dec. 19, 2023) (FCC/USAC MOU), USAC is responsible for the effective administration of the programs, including responding to inquiries from program participants and providing timely and relevant data and analysis to inform the Commission in its policy making and oversight of the USF and appropriated programs. The USAC CRM handles and processes inquiries from individuals, groups, and other entities, for all of the programs administered by USAC. The system allows USAC customer service representatives to access prior related inquiries in order to provide excellent customer service. It includes a portal to allow customers to easily interact with USAC through one channel of communication, maintaining the ability to view case status, create new cases, and review closed cases within the same interface. This system of records includes existing data from the established USF and appropriated programs administered by USAC. The system can also accommodate data from any future programs assigned by the FCC to be administered by USAC. The system allows USAC to retrieve records based on an individual's information within the system. The CRM system will be launched in phases on a program by program basis. Phase I currently includes High Cost, Rural Health Care, and Finance (Contributions) customer support. Phase II incorporates Lifeline and the Affordable Connectivity Program for customer support. Phase III will commence the consumer portal.

This system of records is maintained to provide a unified tool to enable USAC, on behalf of the FCC, to respond to inquiries from consumers, participants, and stakeholders in the USF and appropriated programs; to inform the FCC of concerns regarding the USF and appropriated programs in support of the agency's policymaking and enforcement endeavors or otherwise to evaluate the efficiency and administration of FCC programs and to inform future FCC rulemaking activity; to provide consumers with access to a unified portal to view case status, create new cases, and review closed cases; and to provide USAC staff with access to documents and otherwise improve staff efficiency.

CATEGORIES OF INDIVIDUALS COVERED BY THE SYSTEM:

The categories of individuals in this system include, but are not limited to, individuals who contact USAC with inquiries concerning USF and appropriated programs administered by USAC on behalf of the FCC. These individuals include, but are not limited to, individuals and representatives of individuals who participate in these programs; individuals making inquiries on behalf of program participants and stakeholders; and employees of USAC, USAC's vendors, and the FCC.

CATEGORIES OF RECORDS IN THE SYSTEM:

The categories of records in the system collected by design include first and last name, telephone number, email address, and user ID numbers; service representative names and ID numbers; USAC-assigned identifying numbers, such as Application ID, Eligibility Check ID, or eligibility ID numbers; and the name of the organization associated with the individual. Examples for organization names include but are not limited to carrier and school names. Customers or customer representatives may provide data elements that have not been specifically requested, including date of birth, home address, place of birth, gender, work address, taxpayer ID numbers, facsimile numbers, Social Security numbers (SSNs), mother's maiden name, information contained in birth, death, or marriage certificates, financial account numbers, employment status, employer identification numbers (EINs), and a driver's licenses or State ID (or foreign country equivalent). This system of records also includes existing data from the established USF and appropriated programs administered by USAC.

RECORD SOURCE CATEGORIES:

Information systems for established USF and appropriated programs administered by USAC; participants in USF and appropriated programs; participating providers and their registered enrollment representatives; and USAC employees or contractors or FCC employees or contractors.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC, as a routine use pursuant to 5 U.S.C. 552a(b)(3) as follows:

1. Customer Relations—Records may be disclosed to the individual to whom a record pertains in order to respond to inquiries about that individual's participation in USF and appropriated programs or otherwise assist that individual.

2. Program Management—Records may be disclosed to USAC employees to conduct official duties associated with the administration of FCC programs or the management, operation, and oversight of the CRM, as directed by the Commission.

3. Third Party Contractors—Records may be disclosed to an employee of a third-party contractor engaged by USAC or a participating provider, or to a subcontractor engaged by a third-party contractor, engaged by USAC, to, among other things, develop the CRM, respond to inquiries concerning USF and appropriated programs, run call center and email support operations, assist in dispute resolution, and develop, test, and operate the database system and network.

4. Service Providers—Records may be disclosed to service providers, and their registered representatives, limited to information that may be required to help resolve a consumer complaint or dispute.

5. State, Tribal, or Local Governmental Agencies and Other Authorized Governmental Entities—Records may be disclosed to State, Tribal, or local government agencies and other authorized governmental entities, including public utility commissions, limited to information that may be required to help resolve a consumer complaint or dispute.

6. FCC Enforcement Actions—When a record in this system involves an informal complaint filed alleging a violation of the Communications Act of 1934, as amended, or FCC regulations or orders (FCC Rules and Regulations) by an applicant, licensee, certified or regulated entity, or an unlicensed person or entity, the complaint may be provided to the alleged violator for a response. Where a complainant, in filing his or her complaint, explicitly requests confidentiality of his or her name from public disclosure, the Commission will endeavor to protect such information from public disclosure. Complaints that contain requests for confidentiality may be dismissed if the Commission determines that the request impedes the Commission's ability to investigate and/or resolve the complaint.

7. Congressional Inquiries—Information may be provided to a Congressional office in response to an inquiry from that Congressional office made at the written request of the individual to whom the information pertains.

8. Government-Wide Program Management and Oversight—Records may be disclosed to the Department of Justice (DOJ) to obtain that department's advice regarding disclosure obligations under the Freedom of Information Act (FOIA); or the Office of Management and Budget (OMB) to obtain that office's advice regarding obligations under the Privacy Act.

9. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal (including the Internal Revenue Service to investigate income eligibility verification), State, local, Tribal, international, or multinational agencies, or a component of such an agency, responsible for investigating, prosecuting, enforcing, or implementing a statute, rule, regulation, order, or other compulsory obligation.

10. Litigation—Records may be disclosed to the DOJ when: (a) the FCC or any component thereof; (b) any employee of the FCC in his or her official capacity; (c) any employee of the FCC in his or her individual capacity where the DOJ or the FCC has agreed to represent the employee; or (d) the United States Government, is a party to litigation or has an interest in such litigation, and by careful review, the FCC determines that the records are both relevant and necessary to the litigation, and the use of such records by the DOJ is for a purpose that is compatible with the purpose for which the FCC collected the records.

11. Adjudication—Records may be disclosed in a proceeding before a court or adjudicative body, when: (a) the FCC or any component thereof; (b) any employee of the FCC in his or her official capacity; (c) any employee of the FCC in his or her individual capacity; or (d) the United States Government, is a party to litigation or has an interest in such litigation, and by careful review, the FCC determines that the records are both relevant and necessary to the litigation, and that the use of such records is for a purpose that is compatible with the purpose for which the agency collected the records.

12. Breach Notification—Records may be disclosed to appropriate agencies, entities (including USAC), and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

13. Assistance to Federal Agencies and Entities Related to Breaches—Records may be disclosed to another Federal agency or entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

14. Department of Treasury—Records may be disclosed to the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

15. Prevention of Fraud, Waste, and Abuse Disclosure—Records may be disclosed to Federal agencies, or to an instrumentality of any governmental jurisdiction within or under the control of the United States (including any State, Tribal, or local governmental agency), and their employees and agents (including contractors, their agents or employees; employees or contractors of the agents or designated agents); or contractors, their employees or agents with whom the FCC or USAC has a contract, service agreement, cooperative agreement, or computer matching agreement for the purpose of: (1) detection, prevention, and recovery of improper payments; (2) detection and prevention of fraud, waste, and abuse in Federal programs administered by a Federal agency or non-Federal entity; (3) detection of fraud, waste, and abuse by individuals in their operations and programs, but only to the extent that the information shared is necessary and relevant to verify pre-award and prepayment requirements prior to the release of Federal funds, prevent and recover improper payments for services rendered under programs of the FCC or of those Federal agencies and non-Federal entities to which the FCC or USAC provides information under this routine use.

16. Non-Federal Personnel—Records may be disclosed to non-Federal personnel, including FCC or USAC contractors, other vendors (e.g., identity verification services), grantees, or volunteers who have been engaged to assist the FCC or USAC in the performance of a contract service, grant, cooperative agreement, or other activity related to this system of records that has not been otherwise identified in this Notice and who need to have access to the records in order to perform their activity.

POLICIES AND PRACTICES FOR STORAGE OF RECORDS:

The information pertaining to the CRM includes electronic records, files, data, records, and may include audio recordings of calls. Records are maintained in secure, limited access areas. Physical entry by unauthorized persons is restricted through use of locks, passwords, and other security measures. Both USAC and its contractors will jointly manage the electronic data housed at USAC and contractors will have access to the data at their locations.

POLICIES AND PRACTICES FOR RETRIEVAL OF RECORDS:

Information in the CRM system of records may be retrieved by various identifiers, including, but not limited to the individual's name or identification number. USAC employees and contractors information can also be retrieved through identifiers including first or last name, title, email address, and username.

POLICIES AND PRACTICES FOR RETENTION AND DISPOSAL OF RECORDS:

Data from USF programs contained in the CRM system are maintained and disposed of in accordance with the National Archives and Records Administration (NARA) Records Schedule DAA-0173-2017-0001. ACP records are maintained and disposed of in accordance with NARA Records Schedule DAA-0173-2021-0022, Emergency Broadband Benefit Program (EBB Program)/Affordable Connectivity Program (ACP). Records related to the Connected Care Pilot Program/COVID-19 Telehealth Program are maintained and disposed of in accordance with NARA Records Schedule DAA-0173-2020-0006.

ADMINISTRATIVE, TECHNICAL, AND PHYSICAL SAFEGUARDS:

The electronic records, data, and files are maintained in the FCC and the USAC computer network databases, which are protected by the FCC's and USAC's privacy safeguards, a comprehensive and dynamic set of IT safety and security protocols and features that are designed to meet all Federal IT privacy standards, including those required by OMB, the National Institute of Standard and Technology (NIST) and the Federal Information Security Modernization Act of 2014 (FISMA). In addition, access to the electronic files is restricted to authorized USAC and contractors' supervisors and staff, to the FCC's supervisors and staff in WCB, and to the IT contractors who maintain these computer databases. Other FCC employees and contractors may be granted access only on a “need-to-know” basis. In addition, data in USAC's network servers which are accessible by USAC's contractors will be routinely backed-up. The servers will be stored in secured environments to protect the data.

The paper documents and files are maintained in file cabinets in USAC and the contractors' office suites. The file cabinets are locked when not in use and at the end of the business day. Access to these files is restricted to authorized USAC and its contractors' staffs.

RECORD ACCESS PROCEDURES:

Individuals wishing to request access to and/or amendment of records about themselves should follow the Notification Procedures below.

CONTESTING RECORD PROCEDURES:

Individuals wishing to request an amendment of records about themselves should follow the Notification Procedures below.

NOTIFICATION PROCEDURES:

Individuals wishing to determine whether this system of records contains information about themselves may do so by writing Federal Communications Commission (FCC), 45 L Street NE, Washington, DC 20554, or to privacy@fcc.gov. Individuals requesting access must also comply with the FCC's Privacy Act regulations regarding verification of identity to gain access to the records (47 CFR part 0, subpart E).

EXEMPTIONS PROMULGATED FOR THE SYSTEM:

None.

HISTORY:

89 FR 28774 (Apr. 19, 2024).

Federal Communications Commission.
Marlene Dortch,
Secretary.

[FR Doc. 2026-03740 Filed 2-24-26; 8:45 am]

BILLING CODE 6712-01-P